DEPARTMENT OF COMMERCE

International Trade Administration

[A-475-818]

Certain Pasta From Italy: Notice of Partial Rescission of Antidumping Duty Administrative Review

AGENCY: Import Administration, International Trade Administration, Department of Commerce.

DATES: Effective Date: December 10, 2007.

SUMMARY: In response to requests for administrative review received on July 31, 2007, the Department of Commerce (the Department) initiated an administrative review of the antidumping duty order on certain pasta from Italy covering the period July 1, 2006, through June 30, 2007.¹ As a result of timely withdrawals of request for review, we are rescinding this review, in part, with respect to Valdigrano Di Flavio Pagani SrL (Valdigrano), Industria Alimentare Colavita, S.p.A. (Indalco) Atar S.r.L. (Atar), Rummo S.P.A. Molina E Pastificio (Rummo), Pastificio Pagani S.p.A. (Pagani), Pastificio Carmine Russo and Pastificio Russo di Cicciano (collectively, Russo), and Domenico Paone fu Erasmo S.p.A. (Domenico).

¹ See Initiation of Antidumping and Countervailing Duty Administrative Reviews and Requests for Revocation, 72 FR 48613, 48614 (August 24, 2007) (Initiation Notice).

FOR FURTHER INFORMATION CONTACT: Christopher Hargett, AD/CVD Operations, Office 3, Import Administration, International Trade Administration, U.S. Department of Commerce, 14th Street and Constitution Avenue, NW., Washington, DC 20230; telephone: (202) 482-4161.

SUPPLEMENTARY INFORMATION:

Background

On July 31, 2007, the Department received a request for review from Valdigrano, F. Divella SpA (Divella), Pasta Zara SpA (Zara), Pastificio Di Martino Gaetano & F.lli SrL (Di Martino), Pastificio Felicetti SrL (Felicetti), and from Industria Indalco.² The Department also received a request for an administrative review from petitioners ³ of Atar, Rummo, Pagani, Russo, and Domenico.⁴

² See Pasta from Italy, Request for Administrative Review of Antidumping Order, July 31, 2007.

³ Petitioners are the New World Pasta Company, American Italian Pasta Company, and Dakota Growers Pasta Company.

⁴ See Request for '06-'07 Administrative Review of the Antidumping Duty Order on Certain Pasta from Italy, July 31, 2007.

On August 24, 2007, the Department initiated the review.⁵ On September 4, 2007, Valdigrano withdrew its request for review. On September 12, 2007, Indalco withdrew its request for review. On October 1 and October 5, 2007, petitioners withdrew their request for review on Rummo, Pagani, Russo, and Domenico. On November 21, 2007, petitioners withdrew their request for review on Atar.

⁵ See Initiation Notice.

On October 15, 2007, the Department selected Divella, Zara and Atar as respondents in the instant review.⁶ On October 15, 2007, the Department issued antidumping duty questionnaires to Divella, Zara and Atar.⁷

⁶ See Selection of Respondents for Individual Review Memo from the Team to Melissa Skinner, dated October 15, 2007.

⁷ See request for information from the Department to Divella, Zara and Atar, dated October 15, 2007.

Scope of Order

Imports covered by the antidumping duty order on pasta from Italy include shipments of certain non-egg dry pasta in packages of five pounds (2.27 kilograms) or less, whether or not enriched or fortified or containing milk or other optional ingredients such as chopped vegetables, vegetable purees, milk, gluten, diastasis, vitamins, coloring and flavorings, and up to two percent egg white. The pasta covered by this order is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded from the order on pasta from Italy are imports of organic pasta from Italy that are accompanied by the appropriate certificate issued by the Instituto Mediterraneo Di Certificazione, by Bioagricoop Scrl, by QC&I International Services, by Ecocert Italia or by Consorzio per il Controllo dei Prodotti Biologici, by Associazione Italiana per l'Agricoltura Biologica, or by Instituto per la Certificazione Etica e Ambientale (ICEA) are also excluded from this order.

The merchandise subject to the antidumping duty order on pasta from Italy is currently classifiable under item 1902.19.20 of the Harmonized Tariff Schedule of the United States (HTSUS). Although the HTSUS subheading is provided for convenience and Customs purposes, the written description of the merchandise subject to the order is dispositive.

Scope Rulings

The Department has issued the following scope rulings:

(1) On August 25, 1997, the Department issued a scope ruling, finding that multicolored pasta, imported in kitchen display bottles of decorative glass that are sealed with cork or paraffin and bound with raffia, is excluded from the scope of the order.⁸

⁸ See Memorandum from Edward Easton to Richard Moreland, dated August 25, 1997.

(2) On July 30, 1998, the Department issued a scope ruling, finding that multipacks consisting of six one-pound packages of pasta that are shrink-wrapped into a single package are within the scope of the order.⁹

⁹ See letter from Susan H. Kuhbach, Acting Deputy Assistant Secretary for Import Administration, to Barbara P. Sidari, Vice President, Joseph A. Sidari Company, Inc., dated July 30, 1998.

(3) On October 23, 1997, the petitioners filed a request that the Department initiate an anti-circumvention investigation against Barilla, an Italian producer and exporter of pasta. On October 5, 1998, the Department issued a final determination that, pursuant to section 781(a) of the Act, Barilla was circumventing the antidumping duty order by exporting bulk pasta from Italy, which it subsequently repackaged in the United States into packages of five pounds or less for sale in the United States.¹⁰

¹⁰ See Anti-circumvention Inquiry of the Antidumping Duty Order on Certain Pasta from Italy: Affirmative Final Determination of Circumvention of the Antidumping Duty Order, 63 FR 54672 (October 13, 1998).

(4) On October 26, 1998, the Department self-initiated a scope inquiry to determine whether a package weighing over five pounds as a result of allowable industry tolerances may be within the scope of the order. On May 24, 1999, we issued a final scope ruling finding that, effective October 26, 1998, pasta in packages weighing up to (and including) five pounds four ounces, and so labeled, is within the scope of the order.¹¹

¹¹ See Memorandum from John Brinkmann to Richard Moreland, dated May 24, 1999.

Partial Rescission of Review

If a party that requested a review withdraws the request within 90 days of the date of publication of notice of initiation of the requested review, the Secretary will rescind the review pursuant to 19 CFR 351.213(d)(1). In this case, petitioners, Valdigrano, and Indalco withdrew their requests for administrative reviews within 90 days from the date of initiation. No other party requested review of the companies covered by each of the requests for review. Therefore, we are rescinding this review of the antidumping duty order on certain pasta from Italy, in part, with respect to Rummo, Pagani, Russo, Domenico, Indalco, Valdigrano and Atar.

The Department will issue appropriate assessment instructions directly to U.S. Customs and Border Protection (CBP) 15 days after the publication of this notice. The Department will direct CBP to assess antidumping duties at the cash deposit rate in effect on the date of entry for entries during the period July 1, 2006, through June 30, 2006.

This notice is in accordance with section 777(i)(1) of the Tariff Act of 1930, as amended, and 19 CFR 251.213(d)(4).

Dated: December 3, 2007.
Stephen J. Claeys,
Deputy Assistant Secretary for Import Administration.

[FR Doc. E7-23892 Filed 12-7-07; 8:45 am]

BILLING CODE 3510-DS-P